DEPARTMENT OF ENERGY

Federal Energy Regulatory Commission

Notice of Commission Staff Attendance

The Federal Energy Regulatory Commission (Commission) hereby gives notice that members of the Commission's staff may attend the following meeting related to the transmission planning activities of ISO New England Inc.:

NEPOOL Transmission Committee

• December 14, 2012

The above-referenced meeting will be held via conference call.

The above-referenced meeting is open to stakeholders.

For additional information, see: http://www.iso-ne.com/committees/comm_wkgrps/index.html

The discussions at the meeting described above may address matters at issue in the following proceedings:

Docket No. ER13-193-000, ISO New England Inc.

Docket No. ER13-196-000, ISO New England Inc.

For more information, contact William Lohrman, Office of Energy Market Regulation, Federal Energy Regulatory Commission at (202) 502-8070 or William.Lohrman@ferc.gov.

Dated: December 7, 2012.
Kimberly D. Bose,
Secretary.

[FR Doc. 2012-30066 Filed 12-12-12; 8:45 am]

BILLING CODE 6717-01-P